DEPARTMENT OF COMMERCE

International Trade Administration

[A-427-801, A-428-801, A-475-801]

Ball Bearings and Parts Thereof From France, Germany, and Italy: Final Results of Antidumping Duty Administrative Reviews; 2010-2011

AGENCY: Import Administration, International Trade Administration, Department of Commerce.

SUMMARY: On June 5, 2012, the Department of Commerce (the Department) published the preliminary results of the administrative reviews of the antidumping duty orders on ball bearings and parts thereof from France, Germany, and Italy. On October 16, 2012, the Department released its post-preliminary analysis in these reviews. For these final results, we continue to find that sales of the subject merchandise have not been made at prices below normal value.

DATES: Effective Date: December 10, 2012.

FOR FURTHER INFORMATION CONTACT: Dustin Ross, AD/CVD Operations, Office 1, Import Administration, International Trade Administration, U.S. Department of Commerce, 14th Street and Constitution Avenue NW., Washington, DC 20230; telephone: (202) 482-0747.

SUPPLEMENTARY INFORMATION:

Background

On June 5, 2012, the Department published the preliminary results of the administrative reviews of the antidumping duty orders on ball bearings and parts thereof from France, Germany, and Italy.¹ The period of review is May 1, 2010, through April 30, 2011.

¹ See Ball Bearings and Parts Thereof From France, Germany, and Italy: Preliminary Results of Antidumping Duty Administrative Reviews and Rescission of Antidumping Duty Administrative Reviews in Part, 77 FR 33159 (June 5, 2012) (Preliminary Results).

We invited interested parties to comment on the Preliminary Results. We received case and rebuttal briefs from various parties to the proceedings.

On October 16, 2012, we issued a post-preliminary analysis in which we addressed the targeted dumping allegations made by the petitioner and invited comments from interested parties.² We received additional briefs from interested parties commenting on the Post-Preliminary Analysis.

² See Memorandum to Paul Piquado, “2010/2011 Reviews of the Antidumping Duty Orders on Ball Bearings and Parts Thereof from France, Germany, and Italy: Post-Preliminary Analysis and Calculation Memorandum” (Post-Preliminary Analysis).

On July 5, 2012, the petitioner requested hearings with respect to these reviews on ball bearings and parts thereof from France and Germany. The petitioner and SKF Italy requested a hearing with respect to the review on ball bearings from Italy. On November 14, 2012, the petitioner withdrew its hearing request with respect to France and Germany. On November 21, 2012, the Department conducted a hearing on the review of ball bearings and parts thereof from to Italy.

The Department has conducted these administrative reviews in accordance with section 751 of the Tariff Act of 1930, as amended (the Act).

Scope of the Orders

The products covered by the orders are ball bearings and parts thereof. Imports of these products are classified under the following Harmonized Tariff Schedule of the United States (HTSUS) subheadings: 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80. Although the HTSUS item numbers above are provided for convenience and customs purposes, the written descriptions of the scope of the orders remain dispositive.

Analysis of the Comments Received

All issues raised in the case briefs by parties to these administrative reviews are addressed in the “Issues and Decision Memorandum” (Decision Memorandum) from Gary Taverman, Senior Advisor for Antidumping and Countervailing Duty Operations, to Paul Piquado, Assistant Secretary for Import Administration, dated concurrently with this notice, which is hereby adopted by this notice. A list of the issues which parties have raised and to which we have responded is in the Decision Memorandum and attached to this notice as an Appendix. The Decision Memorandum is a public document and is on file electronically via Import Administration's Antidumping and Countervailing Duty Centralized Electronic Service System (“IA ACCESS”). IA ACCESS is available to registered users at http://iaaccess.trade.gov and it is available to all parties in the Central Records Unit (“CRU”), room 7046 of the main Department of Commerce building. In addition, a complete version of the Decision Memorandum can be accessed directly on the internet at http://www.trade.gov/ia/frn/index.html. The signed Decision Memorandum and the electronic versions of the Decision Memorandum are identical in content.

Rates for Non-Selected Companies

Based on available resources, we selected certain companies for individual examination of their sales of the subject merchandise to the United States during the period of review as permitted under section 777A(c)(2) of the Act. For a detailed discussion on the selection of the respondents for individual examination, see Preliminary Results, 77 FR at 33160 through 33161. For the final results, we have not changed the rates we applied to respondents not selected for individual examination.

Rescission of Review in Part

In accordance with 19 CFR 351.213(d), the Department will rescind an administrative review in part “if a party that requested a review withdraws the request within 90 days of the date of the publication of notice of initiation of the requested review.” On September 7, 2011, Intertechnique SAS (“Intertechnique”) timely withdrew its request for an administrative review. However, in the Preliminary Results we inadvertently did not include Intertechnique in the list of companies for which the review was rescinded. Instead, we preliminarily assigned Intertechnique the rate for all non-selected respondents from France. Because there are no other requests for review for Intertechnique, we are rescinding the review with respect to Intertechnique, effective June 5, 2012, the date of publication of the Preliminary Results, in accordance with 19 CFR 351.213(d)(1).

Changes Since the Preliminary Results

Based on our analysis of the comments received, we have corrected programming and other errors in the weighted-average dumping margins which we included in the Preliminary Results, where applicable. These changes, however, did not affect the final weighted-average dumping margins for the reviewed respondents. A detailed discussion of each correction we made is in the company-specific analysis memoranda dated concurrently with this notice, which are on file electronically via IA ACCESS and in the CRU of the main Commerce building.

Sales Below Cost in the Home Market

Pursuant to section 773(b)(1) of the Act, the Department disregarded sales in the home market that failed the cost-of-production test for the following firms for these final results of reviews: France—NTN-SNR; Germany—myonic GmbH; Italy—Schaeffler Italia S.r.l./WPB Water Pump Bearing GmbH & Co. KG/Schaeffler Italia SpA/The Schaeffler Group and SKF Industries S.p.A./Somecat S.p.A./SKF RIV-SKF Officine di Villar Perosa S.p.A.

Final Results of the Reviews

We determine that the following weighted-average dumping margins on ball bearings and parts thereof exist for the period May 1, 2010, through April 30, 2011:

Company | Margin (percent)
France:
Audi AG | 0.00
Bosch Rexroth SAS | 0.00
Caterpillar Group Services S.A | 0.00
Caterpillar Materials Routiers S.A.S | 0.00
Caterpillar S.A.R.L | 0.00
Perkins Engines Company Limited | 0.00
SNECMA | 0.00
NTN-SNR | 0.00
Volkswagen AG | 0.00
Volkswagen Zubehor GmbH | 0.00
Germany:
Bayerische Motoren Werke AG | 0.00
Bosch Rexroth AG | 0.00
BSH Bosech und Siemens Hausgerate GmbH | 0.00
Caterpillar S.A.R.L | 0.00
myonic GmbH | 0.00
Robert Bosch GmbH | 0.00
Robert Bosch GmbH Power Tools and Hagglunds Drives | 0.00
Italy:
Audi AG | 0.00
Bosch Rexroth S.p.A | 0.00
Caterpillar Overseas S.A.R.L | 0.00
Caterpillar of Australia Pty. Ltd | 0.00
Caterpillar Group Services S.A | 0.00
Caterpillar Mexico, S.A. de C.V | 0.00
Caterpillar Americas C.V | 0.00
Hagglunds Drives S.r.l | 0.00
Perkins Engines Company Limited | 0.00
Schaeffler Italia S.r.l. and WPB Water Pump Bearing GmbH & Co. KG, Schaeffler italia SpA and The Schaeffler Group | 0.00
SKF Industries S.p.A., Somcat S.p.A., and SKF Riv-SKF Officine di Villar Perosa S.p.A | 0.00
SNECMA | 0.00
Volkswagen AG | 0.00
Volkswagen Zubehor GmbH | 0.00

Assessment Rates

In accordance with the Final Modification, we will instruct U.S. Customs and Border Protection (CBP) to liquidate the reviews' entries without regard to antidumping duties.³

³ See Antidumping Proceedings: Calculation of the Weighted-Average Dumping Margin and Assessment Rate in Certain Antidumping Duty Proceedings; Final Modification, 77 FR 8101 (February 14, 2012) (Final Modification).

The Department clarified its “automatic assessment” regulation on May 6, 2003. This clarification will apply to entries of subject merchandise during the period of review produced by companies selected for individual examination in the reviews for which the reviewed companies did not know their merchandise was destined for the United States. In such instances, we will instruct CBP to liquidate unreviewed entries at the country-specific all-others rate if there is no rate for the intermediate company(ies) involved in the transaction. For a full discussion of this clarification, see Antidumping and Countervailing Duty Proceedings: Assessment of Antidumping Duties, 68 FR 23954 (May 6, 2003).

For the companies which were not selected for individual examination, we will instruct CBP to apply the rates listed above to all entries of subject merchandise produced and/or exported by such firms.

We intend to issue liquidation instructions to CBP 15 days after publication of the final results of these reviews.

Cash Deposit Requirements

Because we revoked the order effective September 15, 2011, no cash deposit for estimated antidumping duties on future entries of subject merchandise is required.⁴

⁴ See Ball Bearings and Parts Thereof from France, Germany and Italy: Final Results of Sunset Reviews and Revocation of Antidumping Duty Orders, 76 FR 57019 (September 15, 2011).

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

These final results of administrative reviews are issued and published in accordance with sections 751(a)(1), 751(b)(1), and 777(i)(1) of the Act.

Dated: December 4, 2012
Paul Piquado,
Assistant Secretary for Import Administration.

Appendix

1. Targeted Dumping Methodology

2. ISEs, Packing, and Inland Freight Costs

3. G&A Expenses

4. U.S. Warehousing Expenses

5. Home Market Interest Expense Calculation

6. Capping Interest Revenue at the Amount of Credit Expenses

7. Other Issues

[FR Doc. 2012-29770 Filed 12-7-12; 8:45 am]

BILLING CODE 3510-DS-P